DEPARTMENT OF COMMERCE

Foreign-Trade Zones Board

[B-19-2017]

Foreign-Trade Zone (FTZ) 7—Mayaguez, Puerto Rico, Notification of Proposed Production Activity, MSD International GMBH (Puerto Rico Branch) LLC, (Pharmaceuticals), Las Piedras, Puerto Rico

MSD International GMBH (Puerto Rico Branch) LLC (MSD), operator of Subzone 7G, submitted a notification of proposed production activity to the FTZ Board for its facility in Las Piedras, Puerto Rico within Subzone 7G. The notification conforming to the requirements of the regulations of the FTZ Board (15 CFR 400.22) was received on March 28, 2017.

MSD already has authority to produce certain pharmaceutical products within Subzone 7G. The current request would add a finished pharmaceutical product and a foreign status material/component to the scope of authority. Pursuant to 15 CFR 400.14(b), FTZ activity would be limited to the specific foreign-status materials and components and specific finished products described in the submitted notification (as described below) and subsequently authorized by the FTZ Board.

Production under FTZ procedures could exempt MSD from customs duty payments on the foreign-status components used in export production. On its domestic sales, MSD would be able to choose the duty rates during customs entry procedures that apply to anacetrapib pharmaceutical tablets for treatment of cardiovascular disease (duty free) for the foreign-status material/component noted below. Customs duties also could possibly be deferred or reduced on foreign-status production equipment.

The component/material sourced from abroad is anacetrapib (duty rate 6.5%).

Public comment is invited from interested parties. Submissions shall be addressed to the Board's Executive Secretary at the address below. The closing period for their receipt is May 15, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: March 29, 2017.
Andrew McGilvray,
Executive Secretary.

[FR Doc. 2017-06533 Filed 3-31-17; 8:45 am]

BILLING CODE 3510-DS-P